MORRIS K. UDALL AND STEWART L. UDALL FOUNDATION

Sunshine Act Meetings

TIME AND DATE: 8:30 a.m. to 2:40 p.m., Thursday, November 21, 2019.

PLACE: The offices of the Morris K. Udall and Stewart L. Udall Foundation, 130 South Scott Avenue, Tucson, AZ 85701.

STATUS: Parts of this meeting will be open to the public. The rest of the meeting will be closed to the public.

MATTERS TO BE CONSIDERED: (1) Call to Order, Chair's Remarks & Vote to go into Executive Session; (2) Executive Director's & Deputy Executive Director's Remarks; (3) Consent Agenda Approval (Minutes of the June 26-28, 2019, Board of Trustees Meeting; Board Reports submitted for Education Programs, Finance and Management, Udall Center for Studies in Public Policy-Native Nations Institute-Udall Archives and their Workplan, and U.S. Institute for Environmental Conflict Resolution; resolutions regarding Allocation of Funds to the Udall Center for Studies in Public Policy and Creation of Deputy Executive Director Position for the Udall Foundation; and Board takes notice of any new and updated personnel policies and internal control methodologies); (4) Discussion of Amendments to the Operating Procedures of the Board of Trustees of the Morris K. Udall and Stewart L. Udall Foundation and a resolution to adopt the amendments; (5) Finance and Internal Controls; (6) Udall Center for Studies in Public Policy; (7) U.S. Institute for Environmental Conflict Resolution; (8) Education Programs; (9) Trustee Ethics Training Instructions; and (10) Executive Session to Discuss Internal Personnel Rules and Practices of the Udall Foundation.

PORTIONS OPEN TO THE PUBLIC: All agenda items except as noted below.

PORTIONS CLOSED TO THE PUBLIC: Executive Session to Discuss Internal Personnel Rules and Practices of the Udall Foundation.

CONTACT PERSON FOR MORE INFORMATION: David P. Brown, Executive Director, 130 South Scott Avenue, Tucson, AZ 85701, (520) 901-8500.

Dated: November 4, 2019.
David P. Brown,
Executive Director, Morris K. Udall and Stewart L. Udall Foundation, and Federal Register Liaison Officer.

[FR Doc. 2019-24368 Filed 11-5-19; 11:15 am]

BILLING CODE 6820-FN-P